SMALL BUSINESS ADMINISTRATION

Small Business Size Standards: Waiver of the Nonmanufacturer Rule

AGENCY: U.S. Small Business Administration.

ACTION: Notice of denial to waive the Nonmanufacturer Rule for Water Treatment Chemicals.

SUMMARY: The U.S. Small Business Administration (SBA) is denying a request for a waiver of the Nonmanufacturer Rule for Water Treatment Chemicals based on our recent discovery of small business manufacturers for these classes of products. Denying this waiver will require recipients of contracts set aside for small businesses, service-disabled veteran-owned small businesses, or SBA's 8(a) Business Development Program to provide the products of small business manufacturers or processors on such contracts.

DATES: This notice of denial is effective April 10, 2006.

FOR FURTHER INFORMATION CONTACT: Edith Butler, Program Analyst, by telephone at (202) 619-0422; by FAX at (202) 481-1788; or by e-mail at edith.butler@sba.gov.

SUPPLEMENTARY INFORMATION: Section 8(a)(17) of the Small Business Act (Act), 15 U.S.C. 637(a)(17), requires that recipients of Federal contracts set aside for small businesses, service-disabled veteran-owned small businesses, or SBA's 8(a) Business Development Program provide the product of a small business manufacturer or processor, if the recipient is other than the actual manufacturer or processor of the product. This requirement is commonly referred to as the Nonmanufacturer Rule.

The SBA regulations imposing this requirement are found at 13 CFR 121.406(b). Section 8(a)(17)(b)(iv) of the Act authorizes SBA to waive the Nonmanufacturer Rule for any “class of products” for which there are no small business manufacturers or processors available to participate in the Federal market.

As implemented in SBA's regulations at 13 CFR 121.1202(c), in order to be considered available to participate in the Federal market for a class of products, a small business manufacturer must have submitted a proposal for a contract solicitation or received a contract from the Federal government within the last 24 months. The SBA defines “class of products” based on a six digit coding system. The coding system is the Office of Management and Budget North American Industry Classification System (NAICS).

The SBA received a request on December 12, 2005 to waive the Nonmanufacturer Rule for Water Treatment Chemicals. In response, on January 18, 2006, SBA published in the Federal Register a notice of intent to waive the Nonmanufacturer Rule for Water Treatment Chemicals. SBA explained in the notice that it was soliciting comments and sources of small business manufacturers of these classes of products. In response to that January 18, 2006 notice, SBA received comments from small business manufacturers indicating that they have furnished these products to the Federal government. Accordingly, based on the available information, SBA has determined that there are small business manufacturers of these classes of products, and, is therefore denying the class waiver of the Nonmanufacturer Rule for Water Treatment Chemicals, NAICS codes 325188 and 325199.

Dated: March 20, 2006.
Karen C. Hontz,
Associate Administrator for Government Contracting.

Attachment A: Product Listing
SIN 524-2 FUEL OIL TREATMENT CHEMICALS
FuelSolv FS915 | FuelSolv FS917 | FuelSolv MGP3275 | FuelSolv PB901.
FuelSolv FS916 |  | FuelSolv OMG8500
SIN 524-2 BOILER TREATMENT CHEMICALS
Aquamax IEC2 | OptiGuard MCA624 | Optisperse CPS501 | Steamate NA2140.
Aquamax IEC800 | RediFeed OptiGuard | Optisperse CPS502 | Steamate NA2260.
CorTrol IS100 | MCA630 | Optisperse CPS503 | Steamate NA700.
CorTrol IS102 | OptiGuard MCM610 | Optisperse CPS504 | Steamate NA701.
CorTrol IS103 | RediFeed OptiGuard | Optisperse PO400 | Steamate NA702.
CorTrol IS104 | MCM955 | Optisperse PO423 | Steamate NA703.
CorTrol IS3000 | OptiGuard MCP600 | Optisperse PO424 | Steamate NA707.
CorTrol OS131 | OptiGuard MCP601 | Optisperse SP530 | Steamate NA711.
CorTrol OS133 | RediFeed OptiGuard | Optisperse SP531 | Steamate NA713.
CorTrol OS5300 | MCP953 | Optisperse SP532 | Steamate NA715.
CorTrol OS7780 | Optisperse ADJ560 Optisperse ADJ561 Optisperse APO200 Optisperse APO520 Optisperse AP301 Optisperse AP302 Optisperse CL361 Optisperse CL362 Optisperse CL363 Optisperse CPS500 | Steamate FM760 Steamate FM761 Steamate FM1000 Steamate NA0240 Steamate NA0540
SIN 524-2 COOLING WATER TREATMENT CHEMICALS
Continuum AEC213 | Depositrol PY5200 | Inhibitor AZ604 | Spectrus NX106.
Continuum AEC216 | Depositrol SF502 | Inhibitor AZ660 | Spectrus NX108.
Continuum AEC217 | Depositrol SF504 | Inhibitor AZ8101 | Spectrus NX110.
Continuum AEC218 | Dianodic DN300 | Inhibitor PM508 | Spectrus NX1104.
Continuum AEC223 | Dianodic DN302 | Inhibitor PM608 | Spectrus NX112.
Continuum AEC225 | Dianodic DN310 | Inhibitor PM609 | Spectrus NX114.
Continuum AEC230 | Ferroquest LP7200 | Inhibitor PM610 | Spectrus NX122.
Continuum AEC231 | Ferroquest LP7202 | Kleen AC9507 | Spectrus OX101.
Continuum AEC232 | FloGard POT802 | RediFeed Continuum AT901 | Spectrus OX103.
Continuum AT201 | FloGard POT807 | RediFeed Continuum AT902 | Spectrus OX105.
Continuum AT202 | FoamTrol AF2290 | RediFeed Spectrus OX903 | Spectrus OX903.
Continuum AT203 | FoamTrol AF706 | Spectrus BD152 | Spectrus OX909.
Continuum AT205 | FoamTrol AF724 | Spectrus BD1550 | Spectrus OX1201.
Continuum AT209 | FoamTrol AF1440 | Spectrus NX102 | Spectrus OX1240.
Continuum AT220 |  | Spectrus NX104 |
Depositrol PY505 |  |  |
SIN 524-2 CLOSED SYSTEM TREATMENT CHEMICALS
Corrshield MD400 | Corrshield NT402 | Corrshield OR404 | Ferroquest FQ7102.
Corrshield MD407 | Corrshield NT403 Corrshield NT411 | Ferroquest FQ7101 | Ferroquest FQ7103.
SIN 524-2 MULTI FUNCTION PRODUCTS
AE 1128P | KlarAid IC 1172P | ProSweet OC2532
BioPlus BA900 | KlarAid PC 1192P | ProSweet OC2533
BioPlus BA2920 | KlarAid PC 1195P | ProSweet OC2534
BioPlus BA2921 | PolyFloc AE 1115 | ProSweet OC2543
Pot 804 | PolyFloc AP 1100
KlarAid CDP 1339P | PolyFloc AP 1120P

[FR Doc. E6-4247 Filed 3-23-06; 8:45 am]

BILLING CODE 8025-01-P